DEPARTMENT OF ENERGY

Federal Energy Regulatory Commission

[Docket No. ER19-2585-000]

Florida Power & Light Company; Notice of Extension of Time

August 23, 2019.

On August 15, 2019, Seminole Electric Cooperative, Inc. (Seminole), Lee County Electric Cooperative, Inc. (LCEC), and Florida Keys Electric Cooperative Association, Inc. (FKEC) filed a joint motion to intervene and a request for an extension, from September 3, 2019 to September 13, 2019, of the date for filing interventions and comments in response to Florida Power & Light Company's (FPL) rate filing, filed pursuant to Section 205 of the Federal Power Act, in this proceeding.¹ Seminole, LCEC, and FKEC state that an extension of time is necessary to aid intervenors in developing a greater understanding of this complex filing and the issues it presents without unduly constraining the time available to the Commission for its deliberations. Seminole, LCEC and FKEC are authorized to represent that the Florida Municipal Power Agency (FMPA) ² supports, and that FPL does not oppose, the requested extension of the date for interventions and comments.

¹ 16 U.S.C. 824d (2000).

² FMPA has filed a motion to intervene in this proceeding.

Upon consideration, notice is hereby given that Seminole, LCEC, and FKEC's motion is granted, and the interventions and comment date for the above-captioned proceeding is hereby extended to and including September 13, 2019.

Kimberly D. Bose,
Secretary.

[FR Doc. 2019-18675 Filed 8-28-19; 8:45 am]

BILLING CODE P